DEPARTMENT OF ENERGY

Office of Science Financial Assistance Program Notice 02-28: Division of Nuclear Physics Outstanding Junior Investigator Program

AGENCY: Department of Energy.

ACTION: Notice inviting grant applications.

SUMMARY: The Division of Nuclear Physics of the Office of Science (SC), U.S. Department of Energy (DOE), invites grant applications for support under the Outstanding Junior Investigator Program in nuclear physics. The purpose of this program is to support the development of individual research programs of outstanding scientists early in their careers. Applications should be from tenure-track faculty who are currently involved in experimental or theoretical nuclear physics research or engaged in research associated with the U.S. nuclear data program and should be submitted through a U.S. academic institution.

DATES: To permit timely consideration of awards in Fiscal Year 2003, formal applications submitted in response to this notice must be received by November 6, 2002.

ADDRESSES: We encourage you to submit formal applications in response to this solicitation electronically through DOE's Industry Interactive Procurement System (IIPS) at: http://e-center.doe.gov/. IIPS provides for the posting of solicitations and receipt of applications in a paperless environment via the Internet. Applications must be submitted through IIPS in PDF format by an authorized institutional business official. Questions regarding the operation of IIPS may be e-mailed to the IIPS Help Desk at: HelpDesk@e-center.doe.gov or you may call the help desk at: (800) 683-0751. Further information on the use of IIPS by the Office of Science is available at: http://www.sc.doe.gov/production/grants/grants.html.

If you are unable to submit the application through IIPS, formal applications may be sent to: U.S. Department of Energy, Office of Science, Grants and Contracts Division, SC-64/Germantown Building, 1000 Independence Avenue, SW., Washington, DC 20585-1290, ATTN: Program Notice 02-28.

When submitting applications by U.S. Postal Service Express Mail, any commercial mail delivery service, or when hand carried by the applicant, the following address must be used: U.S. Department of Energy, Office of Science, Grants and Contracts Division, SC-64, 19901 Germantown Road, Germantown, MD 20874-1290, ATTN: Program Notice 02-28.

FOR FURTHER INFORMATION CONTACT: Dr. Dennis G. Kovar, Director, Division of Nuclear Physics, Office of High Energy and Nuclear Physics, SC-23/Germantown Building, Office of Science, U.S. Department of Energy, 1000 Independence Avenue, SW., Washington, DC 20585-1290. Telephone: (301) 903-3613. Fax: (301) 903-3833. E-Mail: dennis.kovar@science.doe.gov. The full text of Program Notice 02-28 is available via the World Wide Web using the following web address: http://www.sc.doe.gov/production/grants/grants.html.

SUPPLEMENTARY INFORMATION: This is the fourth year of an Outstanding Junior Investigator Program in Nuclear Physics. A principal goal of this program is to identify exceptionally talented nuclear physicists early in their careers and to facilitate the development of their research programs. The proposed research is expected to make an important contribution to the vigor of the U.S. Nuclear Physics program.

The DOE expects to make several awards in Fiscal Year 2003; five awards were made in Fiscal Year 2002. The actual number of awards will be determined by the number of excellent applications and the total amount of funds available for this program. It is anticipated that a total of up to $250,000 will be available in Fiscal Year 2003 for funding the program, subject to availability of appropriated funds, and that awards would be for three to five year terms. At the end of the initial term, these grants may be renewed, subject to appropriate external peer review at the time of renewal, as long as the recipient's tenure status is unchanged.

Applications will be subjected to scientific merit review (peer review) and will be evaluated against the following criteria, listed in descending order of importance as codified at 10 CFR Part 605.10 (d):

1. Scientific and/or technical merit of the project;

2. Appropriateness of the proposed method or approach;

3. Competency of applicant's personnel and adequacy of proposed resources;

4. Reasonableness and appropriateness of the proposed budget.

Additional criteria, which will be considered: Future promise of the investigator, and the resources and interest of the sponsoring institution.

General information about development and submission of applications, eligibility, limitations, evaluation and selection processes, and other policies and procedures are contained in the Application Guide for the Office of Science Financial Assistance Program and 10 CFR part 605. Electronic access to the latest version of SC's Application Guide is possible via the Internet at the following web site address: http://www.sc.doe.gov/production/grants/grants.html. DOE is under no obligation to pay for any costs associated with the preparation or submission of applications.

The catalog of Federal Domestic Assistance Number for this program is 81.049, and the solicitation control number is ERFAP 10 CFR part 605.
Issued in Washington, DC on August 21, 2002.
John Rodney Clark,
Associate Director of Science for Resource Management.

[FR Doc. 02-22183 Filed 8-29-02; 8:45 am]

BILLING CODE 6450-02-P